DEPARTMENT OF HOMELAND SECURITY

6 CFR Part 5

[Docket No. DHS-2019-0006]

Privacy Act of 1974: Implementation of Exemptions; Department of Homeland Security/ALL-018 Administrative Grievance Records

AGENCY: Privacy Office, Department of Homeland Security.

ACTION: Final rule.

SUMMARY: The Department of Homeland Security (DHS) is giving concurrent notice of an updated reissued system of records pursuant to the Privacy Act of 1974 for the “Department of Homeland Security/ALL-018 Administrative Grievance Records” System of Records and this final rule. This system of records covers all current and former DHS employees, except for employees of the Office of the Inspector General (OIG), who have submitted grievances under DHS's Administrative Grievance System or in accordance with a negotiated grievance procedure. In this final rule, the Department removes all exemptions previously applied to this system of records.

DATES: This final rule is effective April 29, 2019.

FOR FURTHER INFORMATION CONTACT: For general and privacy questions, please contact: Jonathan R. Cantor, (202) 343-1717, Privacy@hq.dhs.gov, Acting Chief Privacy Officer, Privacy Office, Department of Homeland Security, Washington, DC 20528-0655.

SUPPLEMENTARY INFORMATION: In accordance with the Privacy Act of 1974, 5 U.S.C. 552a, DHS modifies a current DHS system of records titled, “DHS/ALL-018 Grievances, Appeals, and Disciplinary Action Records System of Records,” last published October 17, 2008. The system of records is now renamed “DHS/ALL-018 Administrative Grievance Records.” This system of records covers all current and former DHS employees, except for employees of the OIG, who have submitted grievances under DHS's Administrative Grievance System or in accordance with a negotiated grievance procedure. The records are maintained and used by the Department to resolve employee concerns about working conditions, the administration of collective bargaining agreements, employee/supervisor relations, work processes, or other similar issues. The name and scope of this modified system of records has been changed. Further, this system has been modified in an effort to not duplicate other DHS and government-wide SORNs. This updated SORN is published elsewhere in this issue of the Federal Register.

DHS is issuing this final rule to remove all exemptions previously applied to this system. This will provide individuals with greater access to administrative grievance records than previously provided. The previously issued final rule for this SORN, found at 74 FR 42576 (August 24, 2009), will no longer be in effect once this new final rule is issued.

These regulations are being published as a final rule because the amendment does not impose any requirements or adverse impacts on any member of the public. This amendment is the most efficient means for DHS to implement its internal requirements for complying with the Privacy Act.

Pursuant to the administrative procedure provisions in 5 U.S.C. 553, DHS finds good cause that notice and other public procedure with respect to this rule are unnecessary and finds good cause for making this rule effective on the date of publication in the Federal Register. DHS finds good cause because (a) this updated SORN narrows the scope of records previously applied, since it no longer covers records of disciplinary actions, appeals, or misconduct; (b) such records removed by the existing SORN are already covered by an existing SORN depending on the type of inquiry, action, or appeal (e.g., DHS/ALL-020 Department of Homeland Security Internal Affairs, OPM/GOVT-1 General Personnel Records; OPM/GOVT-3 Records of Adverse Actions, Performance Based Reduction in Grade and Removal Actions, and Termination of Probationers; EEOC/GOVT-1 Equal Employment Opportunity in the Federal Government Complaint and Appeal Records; and MSPB/GOVT-1 Appeals and Case Records); and (c) and exemptions will no longer apply to this updated SORN, thereby providing individuals with greater access to administrative grievance records than previously provided. As a result, no new requirements, restrictions, or adverse impacts are imposed on any member of the public.

In accordance with Executive Order 12866, it has been determined that this rule is not a “significant regulatory action” and, therefore, does not require a Regulatory Impact Analysis.

The regulation will not have a substantial direct effect on the States, on the relationship between the national Government and the States, or on the distribution of power and responsibilities among the various levels of government. Therefore, it is determined that this final rule does not have federalism implications under Executive Order 13132.

Because no notice of proposed rulemaking is required, the provisions of the Regulatory Flexibility Act (5 U.S.C. 601 et seq.) do not apply.

In accordance with the provisions of the Paperwork Reduction Act of 1995 (44 U.S.C. 3501 et seq.), DHS has determined that this rule will not impose new record- keeping, application, reporting, or other types of information collection requirements.

List of Subjects in 6 CFR Part 5

Classified information, Courts, Freedom of information, Government employees, Privacy.

For the reasons stated in preamble, DHS amends chapter I of title 6, Code of Federal Regulations, as follows:

PART 5—DISCLOSURE OF RECORDS AND INFORMATION

1. The authority citation for part 5 continues to read as follows:

Authority: 6 U.S.C. 101 et seq.; Pub. L. 107-296, 116 Stat. 2135; 5 U.S.C. 301.

Subpart A also issued under 5 U.S.C. 552.

Subpart B also issued under 5 U.S.C. 552a.

Appendix C to Part 5 [Amended]

2. Amend appendix C by removing and reserving paragraph 16.

Jonathan R. Cantor,
Acting Chief Privacy Officer, Department of Homeland Security.

[FR Doc. 2019-08596 Filed 4-26-19; 8:45 am]

BILLING CODE 9110-9B-P